SURFACE TRANSPORTATION BOARD

[Docket No. NOR 38302S; Docket No. NOR 38376S]

United States Department of Energy and United States Department of Defense v. Baltimore & Ohio Railroad Company, et al.; United States Department of Energy and United States Department of Defense v. Aberdeen & Rockfish Railroad Company, et al.

AGENCY: Surface Transportation Board.

ACTION: Final Decision.

SUMMARY: The Surface Transportation Board (Board) has approved the settlement agreement (Agreement) proposed by the United States Department of Energy and the United States Department of Defense (together, the Government) and Norfolk Southern Railway Company (NSR); prescribed the Agreement's rate update methodologies (as slightly amended), maximum revenue-to-variable cost (R/VC) ratios, and rates; dismissed NSR as a defendant in these proceedings; extinguished all of NSR's liability (including that of its predecessors and subsidiaries) for reparations; relieved NSR from any further requirement to participate in these proceedings, except in response to a properly issued subpoena under the Board's rules; and continued to hold the proceedings in abeyance pending further settlement negotiations.

DATES: Effective Date: The decision is effective on July 28, 2017.

FOR FURTHER INFORMATION CONTACT: Nathaniel Bawcombe, (202) 245-0376. Assistance for the hearing impaired is available through the Federal Information Relay Service (FIRS) at: 1-800-877-8339.

SUPPLEMENTARY INFORMATION: In a decision served on June 28, 2017, the Board, under 49 U.S.C. 10704, approved the Agreement negotiated by the Government and NSR to settle these rate reasonableness complaints as between them only. The Agreement—which applies broadly to the nationwide movement on NSR's rail lines of irradiated spent fuel, parts, and constituents; spent fuel moving from foreign countries to the United States for disposal; empty casks; radioactive wastes; and buffer and escort cars—will be implemented by NSR tendering rate quotations to the Government pursuant to 49 U.S.C. 10721.

In addition, the Board: (1) Uprescribed the Agreement's rate update methodologies (as slightly amended), maximum R/VC ratios, and rates; (2) dismissed NSR as a defendant in these proceedings; (3) extinguished all of NSR's liability (including that of its predecessors and subsidiaries) for reparations; (4) relieved NSR from any further requirement to participate in these proceedings, except in response to a properly issued subpoena under the Board's rules; and (5) continued to hold these proceedings in abeyance pending further settlement negotiations.

The Board's decision is available on its Web site at www.stb.gov.

Decided: June 26, 2017.
By the Board, Board Members Begeman, Elliott, and Miller.
Tammy Lowery,
Clearance Clerk.

[FR Doc. 2017-13966 Filed 6-30-17; 8:45 am]

BILLING CODE 4915-01-P